LIBRARY OF CONGRESS

Copyright Office

37 CFR Parts 201, 202, 203, 204, 205 and 211

[Docket No. RM 2001-5]

Copyright Rules and Regulations: Copyright, Registration of Claims to Copyright, Freedom of Information, Privacy, Service of Process, Mask Works

AGENCY: Copyright Office, Library of Congress.

ACTION: Final rule; Technical amendments.

SUMMARY: The Copyright Office has reviewed its regulations and is making non-substantive clarifying and corrective technical amendments.

EFFECTIVE DATE: June 28, 2001.

FOR FURTHER INFORMATION CONTACT: Renee Coe, Senior Attorney Advisor, or Sandra Jones, Writer Editor, Copyright GC/I&R, PO Box 70400, Southwest Station, Washington, DC 20024. Telephone: (202) 707-8380. Fax: (202) 707-8366.

SUPPLEMENTARY INFORMATION: The Copyright Office has completed its annual review of Copyright Office regulations, and by this document, adopts non-substantive amendments to clarify, update and correct the text of the regulations. As part of this review, the Office removed §§ 211.5(f) and 201.15 because their regulatory authority had either expired or been repealed by the Semiconductor Chip Protection Act of 1984, as amended, Public Law 100-159, (1987) and the Work Made for Hire and Copyright Corrections Act of 2000, Public Law 106-379 (2000). The Office also added a section on limited purpose addresses for certain time sensitive communications and made other changes to correct minor errors.

List of Subjects

37 CFR Part 201

Copyright.

37 CFR Part 202

Claims, Copyright.

37 CFR Part 203

Freedom of information.

37 CFR Part 204

Privacy.

37 CFR Part 205

Copyright, Service of process.

37 CFR Part 211

Copyright, Mask works.

PART 201—GENERAL PROVISIONS

1. The authority citation for part 201 continues to read as follows:

Authority: 17 U.S.C. 702.

2. Sections 201.1(a) and (b) are revised to read as follows:

§ 201.1 Communications with the Copyright Office.

(a) General purpose addresses. The following addresses may be used for general inquiries made to a particular division or section of the Copyright Office. Addresses for special, limited purposes are provided below in paragraph (b) of this section.

(1) In general. Mail and other communications shall be addressed to the Register of Copyrights, Library of Congress, Copyright Office, 101 Independence Avenue, SE., Washington, DC 20559-6000.

(2) Inquiries to Licensing Division. Inquiries about filings related to the compulsory licenses (17 U.S.C. 111, 114, 115, 118, 119 and chapter 10) should be addressed to the Library of Congress, Copyright Office, Licensing Division, 101 Independence Avenue, SE., Washington, DC 20557-6400.

(3) Copies of records or deposits. Requests for copies of records or deposits should be addressed to the Certifications and Documents Section, LM-402, Library of Congress, Copyright Office, 101 Independence Avenue, SE., Washington, DC 20559-6302.

(4) Search of records. Requests for searches of registrations and recordations in the completed catalogs, indexes, and other records of the Copyright Office should be addressed to the Reference and Bibliography Section, LM-450, Library of Congress, Copyright Office, 101 Independence Avenue, SE., Washington, DC 20559-6306.

(b) Limited purpose addresses. The following addresses may be used only in the special, limited circumstances given for a particular Copyright Office service:

(1) Time sensitive requests. Freedom of Information (FOIA) requests; notices of filing of copyright infringement lawsuits; comments for rulemaking proceedings; requests for Copyright Office speakers; requests for approvals of computer generated application forms; requests for expedited service from either the Certifications and Documents Section or Reference and Bibliography Section to meet the needs of pending or prospective litigation, customs matters or contract or publishing deadlines should be addressed to: Copyright GC/I&R, P.O. Box 70400, Southwest Station, Washington, DC 20024-0400.

(2) Copyright Arbitration Royalty Panels (CARPs). CARP claims, filings, and general CARP correspondence should be mailed to: Copyright Arbitration Royalty Panel (CARP), P.O. Box 70977, Southwest Station, Washington, DC 20024-0977.

* * * * *

§ 201.5 [Amended]

3. Sections 201.5(a)(1) introductory text, (a)(1)(i)(A) through (D) and (a)(1)(ii) are amended by removing “Title” and adding “title” each place it appears.

§ 201.7 [Amended]

4. Section 201.7(c)(1) is amended by removing “de minimis” and adding “de minimis”.

§ 201.10 [Amended]

5. Section 201.10 is amended as follows:

a. By removing “Title” and adding “title” each place it appears in paragraphs (b)(1)(v)(B), (d)(2), and (e)(1).

b. By removing “Title” and adding “title”; by removing “paragraph” and adding “paragraphs” after “regulatory provisions of” in paragraph (d)(4).

c. By adding a comma “,” before “the document, including any” in paragraph (f)(3).

§ 201.15 [Removed and reserved]

6. Section 201.15 is removed and reserved.

§ 201.17 [Amended]

7. Section 201.17 is amended as follows:

a. By removing “DSE” and adding “distant signal equivalent (DSE)” in paragraph (b)(1).

b. By removing “statements of account” and adding “Statements of Account” before “and royalty fees to be deposited” in paragraph (b)(2).

§ 201.19 [Amended]

8. Section 201.19 is amended as follows:

a. By removing “GAAP” in the undesignated paragraph entitled “Step 2” under paragraph (e)(4)(ii) and adding “Generally Accepted Accounting Practices”.

b. By removing “Title” and adding “title” in paragraph (f)(6)(ii)(A).

§ 201.20 [Amended]

9. Section 201.20(b)(1) is amended by removing “Title” and adding “title”.

§ 201.22 [Amended]

10. Section 201.22(c)(1)(i) is amended by removing “Title” and adding “title”.

§ 201.24 [Amended]

11. Section 201.24 is amended by removing “Title” before “United States Code) governs the” and adding “title” in paragraph (b).

§ 201.31 [Amended]

12. Section 201.31(a) is amended by adding “(NAFTA)” after “North American Free Trade Agreement Implementation Act”.

§ 201.39 [Amended]

13. Section 201.39 is amended as follows:

a. By removing “are” and adding “is” after “Appendix A to this section, and” in paragraph (b).

b. By removing “an unpublished work;” and adding “unpublished works;” in paragraph (f)(3).

PART 202—REGISTRATION OF CLAIMS TO COPYRIGHT

14. The authority citation for part 202 continues to read as follows:

Authority: 17 U.S.C. 702.

§ 202.2 [Amended]

15. Sections 202.2(a)(1), (a)(3) and (b)(6)(iii) are amended by removing “ad interim” and adding “ad interim” each place it appears.

§ 202.3 [Amended]

16. Section 202.3 is amended as follows:

a. By removing “are” and adding “is” after “of the collective work” in paragraph (b)(5)(i)(F).

b. By removing the single quotation marks (‘ ’) before and after “Group Periodical Registration,” in paragraph (b)(5)(ii).

c. By adding a comma (,) after “Group Periodicals Registration” in paragraph (b)(5)(iii).

d. By adding a comma (,) after “Group” in paragraph (b)(5)(v)(A).

e. By removing the comma (,) after “submission” in paragraph (b)(6)(i)(E).

f. By adding “was” after “works” in paragraph (b)(7)(i)(C).

g. By removing the right parenthesis “)” after “CD-ROM” in paragraph (b)(8)(i).

§ 202.17 [Amended]

17. Section 202.17 is amended by removing “cum testamento annexo” and adding “cum testamento annexo”; by removing “de bonis non cum testamento annexo” and adding “de bonis non cum testamento annexo” in paragraph (f)(3)(i)(C).

§ 202.19 [Amended]

18. Section 202.19(b)(1)(iii) is amended by removing the period (.) before “In such cases:” and adding a period (.) before the quotation mark after “best edition”.

§ 202.22 [Amended]

19. Section 202.22 is amended as follows:

a. By adding “17” before “of the United States Code” in paragraph (b)(2).

b. By removing “Title” and adding “title” each place it appears in paragraph (c)(1).

PART 203—FREEDOM OF INFORMATION: POLICIES AND PROCEDURES

20. The authority citation for part 203 continues to read as follows:

Authority: 17 U.S.C. 702; 5 U.S.C. 552, as amended.

§ 203.1 [Amended]

21. Section 203.1 is amended by removing “Title” and adding “title”.

§ 203.3 [Amended]

22. Section 203.3(a) is amended by adding “, litigation” after “in conjunction with copyright legislation”.

§ 203.4 [Amended]

23. Section 203.4(d) is amended by removing “carrying” and adding “containing” after “request and the envelope”.

§ 203.6 [Amended]

24. Section 203.6 is amended as follows:

a. By removing “t he” and adding “the” before “procedure established to obtain” in paragraph (a).

b. By removing “Title” and adding “title” in paragraph (h).

PART 204—PRIVACY ACT: POLICIES AND PROCEDURES

25. The authority citation for part 204 continues to read as follows:

Authority: 17 U.S.C. 702; 5 U.S.C. 552(a).

§ 204.8 [Amended]

26. Section 204.8 is amended as follows:

a. By removing “carrying” and adding “containing” after “Appeals, and the envelopes”; by removing quotation mark after “Privacy Act Appeal” and adding quotation mark after “Privacy Act Appeal.” in paragraph (a).

b. By adding a space between “Counsel's” and “decision will set” in paragraph (b).

PART 205—PRODUCTION OF LEGAL DOCUMENTS AND OFFICIAL TESTIMONY

27. The authority citation for part 205 continues to read as follows:

Authority: 17 U.S.C. 411, 17 U.S.C. 702.

§ 205.1 [Amended]

28. Section 205.1 is amended by removing “Copyright” and adding “Copyrights” in the section heading.

PART 211—MASK WORK PROTECTION

29. The authority citation for part 211 continues to read as follows:

Authority: 17 U.S.C. 702 and 908.

§ 211.2 [Amended]

30. Section 211.2 is amended by removing “Title” and adding “title”.

§ 211.4 [Amended]

31. Section 211.4 is amended as follows:

a. By removing “Title” and adding “title” in paragraph (a).

b. By removing paragraph (f).

c. By redesignating paragraph (g) as paragraph (f).

Dated: June 22, 2001.
Marilyn J. Kretsinger,
Assistant General Counsel.

[FR Doc. 01-16188 Filed 6-27-01; 8:45 am]

BILLING CODE 1410-30-P